ENVIRONMENTAL PROTECTION AGENCY

40 CFR Part 761

[EPA-HQ-OPPT-2009-0757; FRL-8831-8]

RIN 2070-AJ38

Polychlorinated Biphenyls (PCBs); Reassessment of Use Authorizations; Extension of Comment Period and Additional Public Meetings

AGENCY: Environmental Protection Agency (EPA).

ACTION: Advance notice of proposed rulemaking; extension of comment period and additional public meetings.

SUMMARY: EPA issued an advance notice of proposed rulemaking (ANPRM) in the Federal Register of April 7, 2010, concerning the reassessment of the use authorizations for PCBs. This document extends the comment period for 45 days, from July 6, 2010, to August 20, 2010. This extension is necessary to provide the public with an opportunity to provide additional and more thorough comments. Also, EPA is holding two additional public meetings to enable additional public comment on the ANPRM during the comment period extension.

DATES: Comments, identified by docket identification (ID) number EPA-HQ-OPPT-2009-0757, must be received on or before August 20, 2010.

Meetings will be held on July 22, 2010, from 9 a.m. until the last speaker has spoken or until 1 p.m., in San Francisco, CA and on July 29, 2010, from 6 p.m. to 9 p.m., in New York, NY. Requests to participate in a meeting must be received 10 days prior to the date of the meeting.

To request accommodation of a disability, please contact the technical person listed under FOR FURTHER INFORMATON CONTACT, preferably at least 10 days prior to the meeting, to give EPA as much time as possible to process your request.

ADDRESSES: Follow the detailed instructions as provided under ADDRESSES in the Federal Register document of April 7, 2010, for submission of comments.

The July 22, 2010 meeting will held in the Hawaii/Palau Room, First Floor Conference Room, 75 Hawthorne St., San Francisco, CA 94105 and the July 29, 2010 meeting will be held in the Empire Room at the Hilton Times Square, 234 West 42nd St., New York, NY 10036. Requests to participate in the meeting, identified by docket ID number EPA-HQ-OPPT-2009-0757, may be submitted to the technical person listed under FOR FURTHER INFORMATION CONTACT.

FOR FURTHER INFORMATION CONTACT: For technical information contact: John H. Smith, National Program Chemicals Division, Office of Pollution Prevention and Toxics, Environmental Protection Agency, 1200 Pennsylvania Ave., NW., Washington, DC 20460-0001; telephone number: (202) 566-0512; e-mail address: smith.johnh@epa.gov.

For general information contact: The TSCA-Hotline, ABVI-Goodwill, 422 South Clinton Ave., Rochester, NY 14620; telephone number: (202) 554-1404; e-mail address: TSCA-Hotline@epa.gov.

SUPPLEMENTARY INFORMATION: This document extends the public comment period established in the Federal Register of April 7, 2010 (75 FR 17645) (FRL-8811-7). In that document, EPA seeks information about the use authorizations for PCBs. EPA is hereby extending the comment period, which was set to end on July 6, 2010, to August 20, 2010.

The additional meeting in New York, NY will be held in the evening at the request of New York City parents who would like to attend to comment on our request for comments on the excluded products provisions, e.g., caulk, of the current PCB regulations. The additional meeting in San Francisco, CA will be held to accommodate West Coast stakeholders. In San Francisco, the meeting attendees will need photo identification.

You may submit a request to participate in the public meeting as a speaker or observer either in person or as an observer only by teleconference. Do not submit any information in your request to participate that is considered Confidential Business Information (CBI).

To access the docket, please follow the detailed instructions as provided under ADDRESSES in the April 7, 2010 Federal Register document. If you have questions, consult the technical person listed under FOR FURTHER INFORMATION CONTACT.

List of Subjects in 40 CFR Part 761

Environmental protection, Hazardous substances, Labeling, Polychlorinated biphenyls (PCBs), Reporting and recordkeeping requirements.

Dated: June 9, 2010.
Stephen A. Owens,
Assistant Administrator, Office of Chemical Safety and Pollution Prevention.

[FR Doc. 2010-14522 Filed 6-15-10; 8:45 am]

BILLING CODE 6560-50-S